DEPARTMENT OF THE INTERIOR

Bureau of Land Management

[LLWY910000 L16100000 XX0000]

Notice of Public Meeting; Wyoming Resource Advisory Council

AGENCY: Bureau of Land Management, Interior.

ACTION: Notice of Public Meeting.

SUMMARY: In accordance with the Federal Land Policy and Management Act of 1976 and the Federal Advisory Committee Act of 1972, the U.S. Department of the Interior, Bureau of Land Management (BLM) Wyoming Resource Advisory Council (RAC) will meet as indicated below.

DATES: The meeting will be held August 21, 2013, (1:30 p.m. to 5:00 p.m.), August 22, (8:00 a.m. to 5:00 p.m.) and August 23, (8:00 a.m. to noon) 2013.

ADDRESSES: The meeting will be at the Buffalo Field Office, 1425 Fort Street, Buffalo, Wyoming.

FOR FURTHER INFORMATION CONTACT: Cindy Wertz, Wyoming Resource Advisory Council Coordinator, Wyoming State Office, 5353 Yellowstone, Cheyenne, WY 82009; telephone 307-775-6014; email cwertz@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include discussions on uranium, cultural, NEPA cooperating agency issues, recreation, land acquisitions and follow-up to previous meetings.

On Wednesday, August 21, the meeting will begin at 1:00 p.m. at the Buffalo Field Office. On Thursday, August 22 at 2:45 p.m., there will be a field tour of Welch Ranch. The public may attend the field tour portion of the agenda, but must provide their own transportation. High clearance vehicles are recommended.

All RAC meetings are open to the public with time allocated for hearing public comments. On Friday, August 23, there will be public comment period beginning at 8:00 a.m. The public may also submit written comments to the RAC. Depending on the number of persons wishing to comment and time available, the time for individual oral comments may be limited. If there are no members of the public interested in speaking, the meeting will move promptly to the next agenda item.

Donald A. Simpson,
State Director.

[FR Doc. 2013-17763 Filed 7-23-13; 8:45 am]

BILLING CODE 4310-22-P